COMMODITY FUTURES TRADING COMMISSION

17 CFR Parts 1, et al.

A New Regulatory Framework for Multilateral Transaction Execution Facilities, Intermediaries and Clearing Organizations; Rules Relating to Intermediaries of Commodity Interest Transactions; A New Regulatory Framework for Clearing Organizations; Exemption for Bilateral Transactions

AGENCY: Commodity Futures Trading Commission.

ACTION: Final Rules; partial withdrawal.

SUMMARY: On December 13, 2000 (65 FR 77962; 65 FR 77993, 65 FR 78020, 65 FR 78030), the Commission issued final rules promulgating a new regulatory framework to apply to multilateral transaction execution facilities, to market intermediaries and to clearing organizations. Due to the enactment of statutory revisions to the Commodity Exchange Act, the Commission is withdrawing these final rules with the exception of amendments to the Commission's rule concerning investment of customer funds, Rule 1.25, and conforming amendments to related rules (Rules 1.20, and 1.26-1.29). See 65 FR 78009-78013. The Commission is publishing a separate release elsewhere in this edition of the Federal Register concerning those rules.

DATES: As of December 28, 2000, the final rule published on December 13, 2000 (65 FR 77962) is withdrawn.

As of December 28, 2000, the final rule published on December 13, 2000 (65 FR 78020) is withdrawn.

As of December 28, 2000, the final rule published on December 13, 2000 (65 FR 78030) is withdrawn.

As of December 28, 2000, the final rule published on December 13, 2000 (65 FR 77993) is withdrawn, with the following exceptions:

The revision of 17 CFR 1.25, as amended on December 28, 2000, which is effective December 28, 2000;

The revision of 17 CFR 1.26, which is effective December 28, 2000; and

The amendments to 17 CFR 1.20, 1.27, 1.28 and 1.29, which are effective December 28, 2000.

FOR FURTHER INFORMATION CONTACT: Jean A. Webb, Secretary of the Commission, Commodity Futures Trading Commission, Three Lafayette Centre, 1155 21st Street, NW., Washington, DC 20581, (202) 418-5100.

Issued in Washington, DC on December 21, 2000 by the Commission.
Jean A. Webb,
Secretary of the Commission.

[FR Doc. 00-32977 Filed 12-27-00; 8:45 am]

BILLING CODE 6351-01-M